DEPARTMENT OF ENERGY

Federal Energy Regulatory Commission

Combined Notice of Filings #1

Take notice that the Commission received the following electric rate filings:

Docket Numbers: ER10-1894-006; ER10-1901-007; ER10-1882-003; ER10-3025-003; ER10-3036-003; ER10-3039-003; ER10-3042-003.

Applicants: Wisconsin Public Service Corporation, Upper Peninsula Power Company, Wisconsin River Power Company, Integrys Energy Services. Inc., WPS Power Development, LLC, Quest Energy, LLC, Combined Locks Energy Center, LLC.

Description: The Integrys Energy Group, Inc. submits Notice of Non-Material Change in Status.

Filed Date: 6/25/13.

Accession Number: 20130625-5150.

Comments Due: 5 p.m. ET 7/16/13.

Docket Numbers: ER10-3300-004.

Applicants: La Paloma Generating Company, LLC.

Description: Triennial Updated Market Power Analysis for the Southwest Region of La Paloma Generating Company, LLC.

Filed Date: 6/25/13.

Accession Number: 20130625-5153.

Comments Due: 5 p.m. ET 8/26/13.

Docket Numbers: ER13-1210-001.

Applicants: Westar Generating, Inc.

Description: Amendment, Purchase Power Agreement with Westar Energy, Inc. to be effective 7/1/2013.

Filed Date: 6/26/13.

Accession Number: 20130626-5000.

Comments Due: 5 p.m. ET 7/17/13.

Docket Numbers: ER13-1772-000.

Applicants: Southwest Power Pool, Inc.

Description: 1374R11 Kansas Power Pool & Westar Meter Agent Agreement to be effective 6/1/2013.

Filed Date: 6/25/13.

Accession Number: 20130625-5100.

Comments Due: 5 p.m. ET 7/16/13.

Docket Numbers: ER13-1773-000.

Applicants: Vermont Transco, LLC.

Description: Vermont Transco LLC Updated Exhibit A for the 1991 Transmission Agreement to be effective 7/1/2013.

Filed Date: 6/25/13.

Accession Number: 20130625-5101.

Comments Due: 5 p.m. ET 7/16/13.

Docket Numbers: ER13-1774-000.

Applicants: Entergy Arkansas, Inc.

Description: Plum Pt. Transfer Agreement to be effective 12/1/2014.

Filed Date: 6/25/13.

Accession Number: 20130625-5105.

Comments Due: 5 p.m. ET 7/16/13.

Docket Numbers: ER13-1775-000.

Applicants: PJM Interconnection, L.L.C.

Description: Non Queue (Sublette)—Original Service Agreement No. 3582 to be effective 5/29/2013.

Filed Date: 6/25/13.

Accession Number: 20130625-5106.

Comments Due: 5 p.m. ET 7/16/13.

Docket Numbers: ER13-1776-000.

Applicants: Spokane Energy, LLC.

Description: Spokane Energy Tariff Revisions to be effective 6/26/2013.

Filed Date: 6/25/13.

Accession Number: 20130625-5108.

Comments Due: 5 p.m. ET 7/16/13.

Docket Numbers: ER13-1777-000.

Applicants: Southern California Edison Company.

Description: Agreement for Limited Interconnection of SCE 220kV Switchyard to Eldorado System to be effective 6/25/2013.

Filed Date: 6/25/13.

Accession Number: 20130625-5119.

Comments Due: 5 p.m. ET 7/16/13.

Docket Numbers: ER13-1778-000.

Applicants: PJM Interconnection, L.L.C.

Description: Non Queue (West Brooklyn)—Original Service Agreement No. 3581 to be effective 5/29/2013.

Filed Date: 6/25/13

Accession Number: 20130625-5130.

Comments Due: 5 p.m. ET 7/16/13.

Docket Numbers: ER13-1779-000.

Applicants: East Kentucky Power Cooperative, Inc., PJM Interconnection, L.L.C.

Description: EKPC submits PJM SA Nos. 3591 and 3592 re grandfathered EKPC Agreements to be effective 6/1/2013.

Filed Date: 6/25/13.

Accession Number: 20130625-5132.

Comments Due: 5 p.m. ET 7/16/13.

Docket Numbers: ER13-1780-000.

Applicants: Southwest Power Pool, Inc.

Description: 2565 Kansas Municipal Energy Agency NITSA and NOA to be effective 6/1/2013.

Filed Date: 6/25/13.

Accession Number: 20130625-5134.

Comments Due: 5 p.m. ET 7/16/13.

Docket Numbers: ER13-1782-000.

Applicants: Duke Energy Progress, Inc.

Description: Notice of Cancellation of Rate Schedule No. 101 of Duke Energy Progress, Inc.

Filed Date: 6/25/13.

Accession Number: 20130625-5137.

Comments Due: 5 p.m. ET 7/16/13.

Docket Numbers: ER13-1783-000.

Applicants: Duke Energy Progress, Inc.

Description: Revised Service Agreement No. 134 under Duke Energy Progress OATT to be effective 6/1/2013.

Filed Date: 6/26/13.

Accession Number: 20130626-5020.

Comments Due: 5 p.m. ET 7/17/13.

Take notice that the Commission received the following public utility holding company filings:

Docket Numbers: PH13-17-000.

Applicants: Starwood Energy Group Global, L.L.C.

Description: Notice of Material Change in Facts of Starwood Energy Group Global, L.L.C.

Filed Date: 6/25/13.

Accession Number: 20130625-5152.

Comments Due: 5 p.m. ET 7/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2013.
Nathaniel J. Davis, Sr.,
Deputy Secretary.

[FR Doc. 2013-16067 Filed 7-3-13; 8:45 am]

BILLING CODE 6717-01-P